DEPARTMENT OF LABOR

Office of the Secretary

Agency Information Collection Activities; Submission for OMB Review; Comment Request; Eligibility Data Form: Uniformed Services Employment and Reemployment Rights Act and Veterans' Preference

ACTION: Notice.

SUMMARY: On October 31, 2013, the Department of Labor (DOL) will submit the Veterans' Employment and Training Service (VETS) sponsored information collection request (ICR) revision titled, “Eligibility Data Form: Uniformed Services Employment and Reemployment Rights Act and Veterans' Preference,” to the Office of Management and Budget (OMB) for review and approval for use in accordance with the Paperwork Reduction Act (PRA) of 1995 (44 U.S.C. 3501 et seq.).

DATES: Submit comments on or before November 30, 2013.

ADDRESSES: A copy of this ICR with applicable supporting documentation; including a description of the likely respondents, proposed frequency of response, and estimated total burden may be obtained free of charge from the RegInfo.gov Web site at http://www.reginfo.gov/public/do/PRAViewICR?ref_nbr=201305-1293-001 (this link will only become active on November 1, 2013) or by contacting Michel Smyth by telephone at 202-693-4129 (this is not a toll-free number) or sending an email to DOL_PRA_PUBLIC@dol.gov.

Submit comments about this request to the Office of Information and Regulatory Affairs, Attn: OMB Desk Officer for DOL-VETS, Office of Management and Budget, Room 10235, 725 17th Street NW., Washington, DC 20503, Fax: 202-395-6881 (this is not a toll-free number), email: OIRA_submission@omb.eop.gov. Commenters are encouraged, but not required, to send a courtesy copy of any comments to the U.S. Department of Labor—OASAM, Office of the Chief Information Officer, Attn: Information Management Program, Room N1301, 200 Constitution Avenue NW., Washington, DC 20210, email: DOL_PRA_PUBLIC@dol.gov.

FOR FURTHER INFORMATION CONTACT: Contact Michel Smyth by telephone at 202-693-4129 (this is not a toll-free number) or by email at DOL_PRA_PUBLIC@dol.gov.

Authority: 44 U.S.C. 3507(a)(1)(D).

SUPPLEMENTARY INFORMATION: Complainants submit Form VETS/USERRA/VP-1010 to the VETS in order to allege violations of either the Uniformed Services Employment and Reemployment Rights Act or laws and regulations related to veterans' preference in Federal employment. This ICR has been classified as a revision, because the VETS has proposed minor changes to this form intended to ensure continuity between the paper VETS 1010 form and the electronic version of the form.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6. The DOL obtains OMB approval for this information collection under Control Number 1293-0002. The current approval is scheduled to expire on October 31, 2013; however, it should be noted that existing information collection requirements submitted to the OMB receive a month-to-month extension while they undergo review. New requirements would only take effect upon OMB approval. For additional substantive information about this ICR, see the related notice published in the Federal Register on August 14, 2013 (78 FR 49549).

Interested parties are encouraged to send comments to the OMB, Office of Information and Regulatory Affairs at the address shown in the ADDRESSES section by November 30, 2013. In order to help ensure appropriate consideration, comments should mention OMB Control Number 1293-0002. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-VETS.

Title of Collection: Eligibility Data Form: Uniformed Services Employment and Reemployment Rights Act and Veterans' Preference.

OMB Control Number: 1293-0002.

Affected Public: Individuals or households.

Total Estimated Number of Respondents: 2,250.

Total Estimated Number of Responses: 2,250.

Total Estimated Annual Burden Hours: 1,125.

Total Estimated Annual Other Costs Burden: $0.

Dated: October 25, 2013.
Michel Smyth,
Departmental Clearance Officer.

[FR Doc. 2013-25800 Filed 10-30-13; 8:45 am]

BILLING CODE 4510-79-P